FEDERAL COMMUNICATIONS COMMISSION

[OMB 3060-0633; FR ID 139067]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written PRA comments should be submitted on or before July 3, 2023. If you anticipate that you will be submitting comments but find it difficult to do so within the period of time allowed by this notice, you should advise the contact listed below as soon as possible.

ADDRESSES: Direct all PRA comments to Cathy Williams, FCC, via email to PRA@fcc.gov and to Cathy.Williams@fcc.gov.

FOR FURTHER INFORMATION CONTACT: For additional information about the information collection, contact Cathy Williams at (202) 418-2918.

SUPPLEMENTARY INFORMATION:

OMB Control Number: 3060-0633.

Title: Sections 74.165, 74.432 and 74.832, Filing of Station Licenses.

Form Number: N/A.

Type of Review: Revision of a currently approved collection.

Respondents: Business or other for-profit entities, Not-for-profit institutions and State, local or Tribal Government.

Number of Respondents and Responses: 1,000 respondents and 1,000 responses.

Estimated Hours per Response: 0.083 hours.

Frequency of Response: Recordkeeping requirement.

Obligation to Responds: Required to obtain or retain benefits. The statutory authority for this collection of information is contained in section 154(i) of the Communications Act of 1934, as amended.

Total Annual Burden: 83 hours.

Total Annual Cost: No cost.

Needs and Uses: The Commission released a Report and Order, Amendment of Parts 0, 1, 5, 73, and 74 of the Commission's Rules Regarding Posting of Station Licenses and Related Information, MB Docket No. 18-121, FCC 18-174, on December 11, 2018. In this Report and Order, the Commission eliminated rule sections 47 CFR 73.1230, 74.564, 74.664, 74.765 and 74.1265 to remove the posting information requirements from the Commission's rules. This collection is being revised to remove these rule sections from this information collection. Also, the posting information requirements are being removed from Sections 74.432 and 74.832 with this revision to the Office of Management and Budget. The remaining information collection requirements for this collection are as follows:

47 CFR 74.165 requires that the instrument of authorization for an experimental broadcast station be available at the transmitter site.

47 CFR 74.432(j) requires that the license of a remote pickup broadcast/low power auxiliary station shall be retained in the licensee's files and the address shown on the authorization.

47 CFR 74.832(j) (low power auxiliary stations) requires that the license shall be retained in the licensee's files at the address shown on the authorization.

Federal Communications Commission.
Marlene Dortch,
Secretary, Office of the Secretary.

[FR Doc. 2023-09408 Filed 5-2-23; 8:45 am]

BILLING CODE 6712-01-P